COMMISSION ON CIVIL RIGHTS

Agenda and Notice of Public Meeting of the Hawai'i Advisory Committee

Notice is hereby given, pursuant to the provisions of the rules and regulations of the U.S. Commission on Civil Rights, that a meeting of the Hawai'i Advisory Committee to the Commission will convene at 9 a.m. and adjourn at 12 p.m. on March 23, 2006, at the Marriott Waikiki Hotel 2552 Kalakaua Avenue. The purpose of the meeting is to plan future activities and discuss the status of civil right issues and concerns.

Persons desiring additional information, or planning a presentation to the Committee, should contact Thomas V. Pilla, Civil Rights Analyst of the Western Regional Office, (213) 894-3437, (TDD (213) 894-3435). Hearing-impaired persons who will attend the meeting and require the services of a sign language interpreter should contact the regional office at least ten (10) working days before the scheduled date of the meeting. The Commission is implementing new travel and budget procedures and forms; it was not possible to publish this notice 15 days in advance of the meeting date.

The meeting will be conducted pursuant to the provisions of the rules and regulations of the Commission.

Dated at Washington, DC March 15, 2006.
Ivy L. Davis,
Acting Chief, Regional Programs Coordination Unit.

[FR Doc. E6-4054 Filed 3-20-06; 8:45 am]

BILLING CODE 6335-01-P